DEPARTMENT OF THE INTERIOR

Bureau of Land Management

[20X.LLWO220000.L10200000.PK0000; OMB Control Number 1004-0041]

Agency Information Collection Activities; Authorizing Grazing Use

AGENCY: Bureau of Land Management, Interior.

ACTION: Notice of information collection; request for comment.

SUMMARY: In accordance with the Paperwork Reduction Act of 1995, we, the Bureau of Land Management (BLM) are proposing to renew an information collection.

DATES: Interested persons are invited to submit comments on or before October 16, 2020.

ADDRESSES: Send your comments on this information collection request (ICR) by mail to Chandra Little. U.S. Department of the Interior, Bureau of Land Management, 1849 C Street NW, Room 2134LM, Washington, DC 20240; or by email to cclittle@blm.gov. Please reference Office of Management and Budget (OMB) Control Number 1004-0041 in the subject line of your comments.

FOR FURTHER INFORMATION CONTACT: To request additional information about this ICR, contact Brian Thrift by email at bthrift@blm.gov, or by telephone at 208-373-3869. Individuals who are hearing or speech impaired may call the Federal Relay Service at 1-800-877-8339 for TTY assistance.

SUPPLEMENTARY INFORMATION: In accordance with the PRA and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BLM is required by the Taylor Grazing Act (43 U.S.C. 315-315r) and Subchapter IV of the Federal Land Policy and Management Act (43 U.S.C. 1751-1753) to manage domestic livestock grazing on public lands consistent with land use plans, principles of multiple use and sustained yield, and other relevant factors. Compliance with these statutory provisions necessitates collection of information on matters such as permittee and lessee qualifications for a grazing permit or lease, base property used in conjunction with public lands, and the actual use of public lands for domestic livestock grazing. Most permits and leases are in effect for 10 years and are renewable if the BLM determines that the terms and conditions of the expiring permit or lease are being met.

Title of Collection: Authorizing Grazing Use (43 CFR subparts 4110 and 4130).

OMB Control Number: 1004-0041.

Form Number: 4130-1, 4130-1a, 4130-1b, 4130-3a, 4130-4, and 4130-5.

Type of Review: Extension of a currently approved collection.

Respondents/Affected Public: Any U.S. citizen or validly licensed business may apply for a BLM grazing permit or lease. The BLM administers nearly 18,000 permits and leases for grazing domestic livestock, at least part of the year on public lands.

Total Estimated Number of Annual Respondents: 18,010.

Total Estimated Number of Annual Responses: 33,810.

Estimated Completion Time per Response: Varies from 10 to 35 minutes, depending on activity.

Total Estimated Number of Annual Burden Hours: 7,811.

Respondent's Obligation: Required to obtain or retain a benefit.

Frequency of Collection: The BLM collects the information on Forms 4130-1, 4130-1a, 4130-1b, and 4130-4 on occasion. The BLM collects the information on Forms 4130-3a and 4130-5 annually.

Total Estimated Annual Nonhour Burden Cost: $30,000.

An agency may not conduct or sponsor and a person is not required to respond to a collection of information unless it displays a currently valid OMB control number.

The authority for this action is the Paperwork Reduction Act of 1995 (44 U.S.C. 3501 et seq.).

Chandra Little,
Regulatory Analyst.

[FR Doc. 2020-17808 Filed 8-14-20; 8:45 am]

BILLING CODE 4310-84-P